DEPARTMENT OF DEFENSE

Department of the Air Force

[Docket ID USAF-2014-0024]

Privacy Act of 1974; System of Records

AGENCY: Department of the Air Force, DoD.

ACTION: Notice to alter a System of Records.

SUMMARY: The Department of the Air Force proposes to alter a system of records notice, F065 AF SVA C, entitled “Services Activities Participation/Membership/Training Records” in its existing inventory of records systems subject to the Privacy Act of 1974, as amended. System is utilized by the Air Force Services activities to determine membership and participation eligibility; maintain patron attendance; conduct contests; monitor training and currency of members; tee time and equipment rental reservations; and to track purchase transactions.

DATES: Comments will be accepted on or before August 11, 2014. This proposed action will be effective the day following the end of the comment period unless comments are received which result in a contrary determination.

ADDRESSES: You may submit comments, identified by docket number and title, by any of the following methods:

* Federal Rulemaking Portal: http://www.regulations.gov.

Follow the instructions for submitting comments.

* Mail: Federal Docket Management System Office, 4800 Mark Center Drive East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Charles J. Shedrick, Department of the Air Force Privacy Office, Air Force Privacy Act Office, Office of Warfighting Integration and Chief Information officer, ATTN: SAF/CIO A6, 1800 Air Force Pentagon, Washington, DC 20330-1800, or by phone at (571) 256-2515.

SUPPLEMENTARY INFORMATION: The Department of the Air Force's notices for systems of records subject to the Privacy Act of 1974 (5 U.S.C. 552a), as amended, have been published in the Federal Register and are available from the address in FOR FURTHER INFORMATION CONTACT or from the Defense Privacy and Civil Liberties Office at http://dpclo.defense.gov/.

The proposed systems reports, as required by 5 U.S.C. 552a(r) of the Privacy Act, as amended, were submitted on June 18, 2014, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996, 61 FR 6427).

Dated: July 8, 2014.
Aaron Siegel,
Alternate OSD Federal Register Liaison Officer, Department of Defense.

F065 AF SVA C

System name:

Services Activities Participation/Membership/Training Records (May 9, 2003, 68 FR 24944).

* * * * *

Changes:

System identifier:

Delete entry and replace with “F034 AFPC B.”

System name:

Delete entry and replace with “Air Force Morale and Welfare Membership Programs.”

System location:

Delete entry and replace with “Air Force Personnel Center Services Directorate, 2261 Hughes Avenue, Suite 156, Joint Base San Antonio (JBSA) Lackland AFB, TX 78236-9854; Major Commands, Air Force installation, Official mailing addresses are published as an appendix to the Air Force's compilation of record system notices.

Federal Cloud, Terremark Network Access Point (NAP) of Americas, 50 NE 9th St #133, Miami, FL 33132.

Air Force Sikes Act Permit Management Program, 2261 Hughes Avenue, Suite 155, Joint Base San Antonio (JBSA) Lackland AFB, TX 78236-9853.”

Categories of individuals covered by the system:

Delete entry and replace with “Personnel who participate in Air Force Moral, Welfare, and Recreation events/activities.”

Categories of records in the system:

Delete entry and replace with “Name, address, phone number(s), email address. Individuals participating in outdoor game life activities emergency contact information—name and phone number.”

Authority for maintenance of the system:

Delete entry and replace with “10 U.S.C. 8013, Secretary of the Air Force; 16 U.S.C. 670a—Cooperative plan for conservation and rehabilitation (Sikes Act); Air Force Instruction 32-7064, Integrated Natural Resources Management; Air Force Instructions 34-116, Air Force Golf Course Program; Air Force Instructions 34-118, Air Force Bowling Program.”

Purpose(s):

Delete entry and replace with “System is utilized by the Air Force Services activities to determine membership and participation eligibility; maintain patron attendance; conduct contests; monitor training and currency of members; tee time and equipment rental reservations; and to track purchase transactions.”

* * * * *

Storage:

Delete entry and replace with “Paper and electronic storage media.”

Retrievability:

Delete entry and replace with “Name, email address, and phone number.”

Safeguards:

Delete entry and replace with “Records are accessed by the program manager and person(s) responsible for servicing the records system in performance of their official duties and by authorized personnel who are properly screened and cleared for need-to-know. Paper records are stored in file cabinets in buildings that are either locked or have controlled access entry requirements. Electronic records are only accessed by authorized personnel with Common Access Card (CAC), usernames, passwords, pin numbers, and need-to-know.”

Retention and disposal:

Delete entry and replace with “Publicity/Theater schedules of activities are destroyed 30 days after event or when superseded, obsolete, or cancelled.

Transaction Machine Cards and Listings are destroyed 45 days after completing necessary reconciliations with pertinent records.

Membership Data used to determine privileges for golf course use, both electronic files and paper forms must be destroyed after 1 year after membership termination.

Golf Course Fee Registers must be destroyed after 2 years or expiration date of membership or when no longer needed, whichever is sooner.

Financial Statements and Reports, and Daily Reports are destroyed after 4 years, provided account is clear.

Outdoor game life records will be destroyed after 3 calendar years by deleting/wiping clean the database.”

System Manager(s) and Address:

Delete entry and replace with “Chief of Community Programs, Community Programs Division, Services Directorate, Headquarters Air Force Personnel Center, 2261 Hughes Avenue Suite 156, Joint Base San Antonio (JBSA) Lackland AFB, TX 78236-9854.

For outdoor game life, Chief of Air Force Sikes Act Permit Management Program, 2261 Hughes Avenue, Suite 155, Joint Base San Antonio (JBSA) Lackland AFB, TX 78236-9853.”

Notification Procedure:

Delete entry and replace with “Individuals seeking to determine whether this system of records contains information on them should address inquiries to or visit the Community Programs Division, Services Directorate, Air Force Personnel Center, 2261 Hughes Avenue, Suite 156, Joint Base San Antonio (JBSA) Lackland AFB, TX 78236-9854.

Services activities held at the appropriate Air Force installation. Official mailing addresses are published as an appendix to the Air Force's compilation of systems of records notices.

Outdoor game life, Chief Of Air Force Sikes Act Permit Management Program, 2261 Hughes Avenue Suite 155 Joint Base San Antonio (JBSA) Lackland AFB, TX 78236-9853.

For verification purposes, individual should provide their full name and/or account number, and any details which may assist in locating records, and their signature.

In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

Record Access Procedures:

Delete entry and replace with “Individuals seeking access to records about themselves contained in this system should address written inquiries to or visit the Community Programs Division, Services Directorate, Air Force Personnel Center, 2261 Hughes Avenue, Suite 156, Joint Base San Antonio (JBSA) Lackland AFB, TX 78236-9854.

Services activities held at the appropriate Air Force installation. Official mailing addresses are published as an appendix to the Air Force's compilation of systems of records notices.

Outdoor game life, Chief of Air Force Sikes Act Permit Management Program, 2261 Hughes Avenue, Suite 155, Joint Base San Antonio (JBSA) Lackland AFB, TX 78236-9853.

For verification purposes, individual should provide their full name and/or account number, and any details which may assist in locating records, and their signature.

In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

Contesting Record Procedures:

Delete entry and replace with “The Air Force rules for accessing records and for contesting contents and appealing initial agency determinations are published in 32 CFR part 806b, Air Force Instruction 33-332, Air Force Privacy Program and may be obtained from the system manager.”

* * * * *

[FR Doc. 2014-16224 Filed 7-10-14; 8:45 am]

BILLING CODE 5001-06-P